SECURITIES AND EXCHANGE COMMISSION

[Release No. 34-63211]

Notice of Intention To Cancel Registrations of Certain Transfer Agents

October 29, 2010.

Notice is hereby given that the Securities and Exchange Commission (“Commission”) intends to issue an order, pursuant to Section 17A(c)(4)(B) of the Securities Exchange Act of 1934 (“Act”),¹ cancelling the registrations of the transfer agents whose names appear in the attached Appendix.

¹ 15 U.S.C. 78q-1(c)(4)(B).

FOR FURTHER INFORMATION CONTACT: Jerry W. Carpenter, Assistant Director, or David Karasik, Special Counsel, at (202) 551-5710, U.S. Securities and Exchange Commission, Division of Trading and Markets, Room 7321 SP1, 100 F Street, NE., Washington, DC 20549-7010 or by e-mail at tradingandmarkets@sec.gov with the phrase “Notice of Intention To Cancel Transfer Agent Registration” in the subject line.

Background

Section 17A(c)(4)(B) of the Act provides that if the Commission finds that any transfer agent registered with the Commission is no longer in existence or has ceased to do business as a transfer agent, the Commission shall by order cancel that transfer agent's registration.

Although the Commission has made efforts to locate and to determine the status of each of the transfer agents listed in the Appendix, based on the facts it has, the Commission believes that each of those transfer agents is no longer in existence or has ceased doing business as a transfer agent. Accordingly, at any time after December 15, 2010, the Commission intends to issue an order cancelling the registrations of the transfer agents listed in the Appendix.

The representative of any transfer agent listed in the Appendix who believes the registration of the transfer agent should not be cancelled must notify the Commission in writing or by e-mail prior to December 15, 2010. Written notifications may be mailed to Office of Clearance and Settlement, Division of Trading and Markets, U.S. Securities and Exchange Commission, Room 7321 SP1, 100 F Street NE., Washington, DC 20459-7010. E-mail notifications may be sent to tradingandmarkets@sec.gov with the phrase “Notice of Intention To Cancel Transfer Agent Registration” in the subject line.

For the Commission by the Division of Trading and Markets, pursuant to delegated authority.²
² 17 CFR 200.30-3(a)(22).
Florence E. Harmon,
Deputy Secretary.

Appendix
Transfer agent | File No.
Advest Transfer Services, Inc | 8405855
AGN Associates & Stock Transfer Services, LLC | 8406255
Amazon Natural Treasures.com, Inc | 8405839
Beverly National Corporation | 8505474
Capital Fund Services, Inc | 8405909
Capital Fund Services, Inc | 8405683
Century Realty Trust Co | 8400082
CNB Bancorp, Inc | 8505383
Compushare Transfer Corporation | 8406194
Endless Investments, LLC | 8406178
Electrochemical Industries Frutarom Inc | 8400814
First Choice National Stock Transfer Agency Inc | 8406154
Fortune Fund Administration, Inc | 8405672
Francine Goodman (dba Maximvs Transfer Services) | 8405926
GTI Corporate Transfer Agents LLC | 8406151
Guarantee Services Corp | 8406145
Hola Corp | 8406047
Howard Johnson & Company | 8405555
InCap Fund Administration, Inc | 8406124
Incorp Stock Transfer Inc | 8406042
International Acquisitions & Holdings, Inc | 8406164
Kingsdale Shareholder Services Inc | 8406188
Lapeer County Bank & Trust Co | 8505250
Legends Financial Holding, Inc | 8505534
Liberty Transfer Company | 8405474
Manchester Benefits Group, Ltd | 8405891
Manchester Exchange Trust Limited | 8405810
McGladrey & Pullen, LLP | 8405806
Mercantile Bancorp, Inc | 8406226
Nicholas Vito Pelletiere Security West Stock Transfer | 8406090
NuWave eSolutions Private Limited | 8406170
Pacific Stock Transfers Inc | 8406088
Public Stock Transfer Company dba/Public Ease | 8405866
Royalty Stock Transfer | 8406189
Select American Transfer Co | 8406152
Select Fidelity Transfer Services Ltd | 8406139
Syntel, Inc | 8406142
Technology Funding Capital Corporation | 8405738
The Commercial Bank | 8405867
The Northern Savings & Loan Company | 8405867
The Nyhart Company, Inc | 8405722
Trustmark Stock & Transfer Inc | 8406073
UAC Inc | 8400293
Wall Street Stock Transfer Corp | 8406246
Wulf International, Ltd | 8406180

[FR Doc. 2010-27857 Filed 11-3-10; 8:45 am]

BILLING CODE 8011-01-P